DEPARTMENT OF HEALTH AND HUMAN SERVICES

National Institutes of Health

Center for Scientific Review; Amended Notice of Meeting

Notice is hereby given of a change in the meeting of the Centers for Scientific Review Special Emphasis Panel, June 20, 2007, 12 p.m. to June 20, 2007, 2 p.m., National Institutes of Health, 6701 Rockledge Drive, Bethesda, MD 20892 which was published in the Federal Register on May 22, 2007, 72 FR 28706-28708.

The meeting will be held June 26, 2007, from 2 p.m. to 4 p.m. The meeting location remains the same. The meeting is closed to the public.

Dated: May 25, 2007.
Jennifer Spaeth,
Director, Office of Federal Advisory Committee Policy.

[FR Doc. 07-2762 Filed 6-1-07; 8:45 am]

BILLING CODE 4140-01-M